DEPARTMENT OF TRANSPORTATION

[STB Finance Docket No. 34692]

Surface Transportation Board

Denver Terminal Railroad Company, d/b/a Denver Rock Island Railroad—Acquisition and Operation Exemption—Rail Lines of Union Pacific Railroad Company; Notice

Denver Terminal Railroad Company, d/b/a Denver Rock Island Railroad (DRIR), a Class III rail carrier, has filed a verified notice of exemption under 49 CFR 1150.41 to acquire from Union Pacific Railroad Company (UP) and operate rail lines commonly known as the Stock Yard Lead and the North Washington Industrial Track in Denver and Adams Counties, CO. The Stock Yard Lead line of railroad consists of Track 12, extending from a point of connection with a UP main line north of East 58th Avenue in unincorporated Adams County to a point of connection with existing DRIR trackage at or near Race Court in the City of Denver, Denver County, a distance of 5,750 feet, or 1.09 miles, plus the following auxiliary tracks: Track 12A (450 feet); Track 12B (750 feet); Track 12C (1,767 feet); and Track 12D (1,845 feet), for a total distance of approximately 10,562 feet, or 2 miles. The North Washington Industrial Track line of railroad consists of Track 122, extending from a point of connection with UP trackage east of North Washington Street to the end of the track north of East 68th Avenue, all in unincorporated Adams County, a distance of approximately 2.2 miles. Numerous auxiliary tracks are also part of the North Washington Industrial Track. DRIR has been leasing and operating the Stock Yard Lead from UP since 2005.¹ The purpose of this transaction is to convert DRIR's leasehold interest into an ownership interest, and to obtain acquisition and operation authority for the North Washington Industrial Track.²

¹ See Denver Terminal Railroad Company, d/b/a Denver Rock Island Railroad—Lease and Operation Exemption—Rail Line of Union Pacific Railroad Company, STB Finance Docket No. 34637 (STB served Jan. 12, 2005).

² Acquisition of the Stock Yard Lead and North Washington Industrial Track by DRIR is part of an exchange of trackage whereby UP acquired DRIR's Sandown-Belt Junction line in Denver. See Union Pacific Railroad Company—Acquisition and Operation Exemption—Line of Denver Terminal Railroad Company, d/b/a Denver Rock Island Railroad, STB Finance Docket No. 34631 (STB served Apr. 1, 2005).

DRIR certifies that its projected revenues as a result of this transaction will not result in the creation of a Class II or Class I rail carrier. The transaction is scheduled to be consummated no sooner than May 27, 2005, the effective date of the exemption (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34692, must be filed with the Surface Transportation Board, 1925 K Street, NW., Washington, DC 20423-0001. In addition, a copy of each pleading must be served on: Thomas F. McFarland, Thomas F. McFarland, P.C., 208 South LaSalle Street, Suite 1890, Chicago, IL 60604-1112.

Board decisions and notices are available on our Web site at http://www.stb.dot.gov.

Decided: June 6, 2005.
By the Board, David M. Konschnik, Director, Office of Proceedings.
Vernon A. Williams,
Secretary.

[FR Doc. 05-11556 Filed 6-13-05; 8:45 am]

BILLING CODE 4915-01-P